DEPARTMENT OF JUSTICE

[AAG/A Order No. 014-2003]

Privacy Act of 1974: System of Records

The Department of Justice proposes to modify the Office of the Inspector General Investigative Records System, Justice/OIG-001, last published in the Federal Register on March 10, 1992 (57 FR 8476), and amended in 2000 (65 FR 32126). The primary purpose of the system is to enable the Department's Office of the Inspector General (OIG) to conduct its responsibilities under the Inspector General Act of 1978, as amended by the Inspector General Act Amendments of 1988, 5 U.S.C. App. 3, including its responsibility to conduct and supervise investigations relating to programs and operations of the Department. The Department now proposes to modify the system by deleting existing routine use (d) and substituting three new routine uses in its place, by adding four additional routine uses, and by republishing existing routine use (a) to correct two typographical errors.

The OIG proposes to delete existing routine use (d) and to substitute the following three routine uses in its place. New routine use (d) will permit the OIG to share information with other Federal agencies when that information is relevant and necessary to the agency's hiring, security clearance, or similar decision. The existing provision limits disclosures to information that is “sufficiently reliable to support a referral to another [government agency] for criminal, civil, administrative, personnel, or regulatory action.” The proposed modification would permit the OIG to release information that may not qualify for such referral but is nevertheless relevant to a Federal agency's hiring, security clearance, or similar decision. In addition, the OIG is adding new routine uses (j) and (k), which permit the sharing of information with government agencies and professional licensing organizations in connection with their decisions regarding the suitability or eligibility of an individual for a license or permit and with State or local law enforcement agencies in connection with the hiring or continued employment of law enforcement officers.

Pursuant to the Homeland Security Act of 2002, Public Law 107-296, 116 Stat. 2135, the OIG, together with the President's Council on Integrity and Efficiency (PCIE) and the Inspector Generals (IG) of certain other agencies, will establish an “external review process for ensuring that adequate internal safeguards and management procedures continue to exist within [the OIG offices affected by the Act].” This process will require the OIG to share information from its investigative files with the PCIE and with other IG offices, who on a periodic basis will conduct a peer review of OIG investigative files and practices. Accordingly, the Department is modifying Justice/OIG-001 to allow the disclosure of information to authorized officials within the PCIE and other IG offices for the purpose of conducting the required peer reviews.

Also in connection with the Homeland Security Act, certain Department of Justice functions and employees have been transferred to the newly created Department of Homeland Security. Accordingly, certain information maintained by the DOJ OIG in connection with these functions and employees will be transferred to the Office of the Inspector General for that Department. The OIG is adding a routine use to cover these transfers.

Finally, the OIG is adding two additional routine uses: one that permits disclosure to contractors when necessary to accomplish an agency function related to OIG-001 and one that allows the OIG to share information with former employees for the purposes of responding to certain official inquiries and for facilitating communications that may be necessary for personnel-related or other official purposes.

In accordance with 5 U.S.C. 552a(e)(4) and (11), the public is given a 30 day period in which to comment; and the Office of Management and Budget (OMB), which has oversight responsibility under the Act, requires a 40-day period in which to conclude its review of the system. Any comments must be submitted in writing to Mary Cahill, Management Analyst, Management and Planning Staff, Justice Management Division, Department of Justice, Washington, DC 20530 by May 29, 2003. As required by 5 U.S.C. 552a(r) and Office of Management and Budget (OMB) implementing regulations, the Department of Justice has provided a report on the proposed changes to OMB and the Congress.

A modified system description is set forth below.

Paul R. Corts,
Assistant Attorney General for Administration.

JUSTICE/OIG-001

System name:

Office of the Inspector General Investigative Records.

* * * * *

ROUTINE USES OF RECORDS MAINTAINED IN THE SYSTEM, INCLUDING CATEGORIES OF USERS AND THE PURPOSES OF SUCH USES:

(a) In the event that a record, either by itself or in combination with other information, indicates a violation or potential violation of law, whether civil, criminal, or regulatory in nature, and whether arising by general statute or particular program statute, or by rule, regulation, or order pursuant thereto, or a violation or potential violation of a contract, the relevant record may be disclosed to the appropriate agency, whether Federal, State, local, foreign, or international, charged with the responsibility of investigating or prosecuting such violation, enforcing or implementing such statute, rule, regulation, or order, or with enforcing such contract.

* * * * *

(d) A record may be disclosed to appropriate officials and employees of a Federal agency or entity in connection with the assignment, hiring, or retention of an individual; the issuance, renewal, suspension, or revocation of a security clearance; the execution of a security or suitability investigation; the letting of a contract, or the issuance or revocation of a grant or benefit by such an entity, to the extent that the information is relevant and necessary to that entity's decision on the matter.

* * * * *

(j) A record may be disclosed to any Federal, State, local, tribal, foreign, international, or professional licensing agency or association in connection with that entity's decision regarding the suitability or eligibility of an individual for a license or permit.

(k) A record may be disclosed to appropriate officers and employees of State or local (including the District of Columbia) law enforcement or detention agencies in connection with the hiring or continued employment of an employee or contractor where the employee or contractor would occupy or occupies a position of public trust as a law enforcement officer or detention officer having direct contact with the public or with prisoners or detainees, to the extent that the information is relevant and necessary to the recipient agency's decision.

(l) A record may be disclosed to the Office of the Inspector General for the Department of Homeland Security when necessitated by the transfer of Department of Justice functions and employees to the Department of Homeland Security.

(m) Information may be disclosed to other Federal Offices of Inspector General and/or to the President's Council on Integrity and Efficiency for purposes of conducting the external review process required by the Homeland Security Act.

(n) Relevant records may be disclosed to contractors, grantees, experts, consultants, students, and others performing or working on a contract, service, grant, cooperative agreement, or other assignment for the Federal government, when necessary to accomplish an agency function related to this system of records.

(o) Relevant and necessary information may be disclosed to a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

* * * * *

[FR Doc. 03-10530 Filed 4-28-03; 8:45 am]

BILLING CODE 4410-BD-P